DEPARTMENT OF THE INTERIOR

Bureau of Land Management

[CA-930-5410-00-B128; CACA 41781]

Conveyance of Mineral Interests in California

AGENCY: Bureau of Land Management, Interior.

ACTION: Correction.

SUMMARY: In the notice document 65-147 beginning on page 46733 in the issue of Monday, July 31, 2000, make the following correction; On page 46733 in the first column the legal description reads sec. 35, W½SE¼, NE¼. This should read sec. 35, W½W½SE¼, NE¼.

Dated: October 19, 2000.
David Mcilnay,
Chief, Branch of Lands.

[FR Doc. 00-27528 Filed 10-25-00; 8:45 am]

BILLING CODE 4310-40-P